DEPARTMENT OF ENERGY

Federal Energy Regulatory Commission

[Docket No. AD10-12-007]

Increasing Market and Planning Efficiency Through Improved Software; Supplemental Agenda Notice

As announced in the Notice of Technical Conference issued on February 29, 2016, in the above captioned proceeding, Federal Energy Regulatory Commission (Commission) staff will convene a technical conference on June 27, 28, and 29, 2016 to discuss opportunities for increasing real-time and day-ahead market efficiency through improved software.

This conference will bring together diverse experts from public utilities, the software industry, government, research centers and academia and is intended to build on the discussions initiated in the previous Commission staff technical conferences on increasing market and planning efficiency through improved software.

The agenda for this conference is attached. If any changes occur, the revised agenda will be posted on the calendar page for this event on the Commission's Web site ¹ prior to the event.

¹ http://www.ferc.gov/industries/electric/indus-act/market-planning/2016-conference.asp.

Dated: May 20, 2016.
Kimberly D. Bose,
Secretary.

[FR Doc. 2016-12407 Filed 5-25-16; 8:45 am]

BILLING CODE 6717-01-P